GENERAL SERVICES ADMINISTRATION

[FPMR Bulletin 2003-B1]

Federal Management Regulation; Redesignation of a Federal Building

AGENCY: Public Buildings Service (P), GSA.

ACTION: Notice of a bulletin.

SUMMARY: The attached bulletin announces the redesignation of a Federal Building.

Expiration Date: This bulletin expires September 3, 2003. However, the building redesignation announced by this bulletin will remain in effect until canceled or superseded.

FOR FURTHER INFORMATION CONTACT: Paul Chistolini, General Services Administration, Public Buildings Service (P), Washington, DC 20405; at (202) 501-1100, or by e-mail at paul.chistolini@gsa.gov.

Dated: March 31, 2003.
Stephen A. Perry,
Administrator of General Services.

GENERAL SERVICES ADMINISTRATION

[FPMR Bulletin 2003-B1]

Federal Management Regulation; Redesignation of a Federal Building

To: Heads of Federal Agencies.

Subject: Redesignation of a Federal Building.

1. What is the purpose of this bulletin? The attached bulletin announces the redesignation of a Federal Building.

2. When does this bulletin expire? This bulletin expires September 3, 2003. However, the building redesignation announced by this bulletin will remain in effect until canceled or superseded.

3. Redesignation. The former and new name of the building being redesignated are as follows:

Former name | New name
Battle Creek Federal Center, 50 N. Washington Avenue, Battle Creek, MI 49017 | Hart-Dole-Inouye Federal Center, 50 N. Washington Avenue, Battle Creek, MI 49017.

4. Who should we contact for further information regarding redesignation of this Federal Building?

General Services Administration, Public Buildings Service, Office of the Commissioner, Attn: Paul Chistolini, 1800 F Street, NW., Washington, DC 20405, Telephone Number: (202) 501-1100, E-mail Address: paul.chistolini@gsa.gov.

[FR Doc. 03-8661 Filed 4-8-03; 8:45 am]

BILLING CODE 6820-23-P